DEPARTMENT OF LABOR

Occupational Safety and Health Administration

[Docket No. OSHA-2013-0012]

Proposed Modification to the List of Appropriate NRTL Program Test Standards and the Scopes of Recognition of Several NRTLs

AGENCY: Occupational Safety and Health Administration (OSHA), Labor.

ACTION: Notice.

SUMMARY: In this notice, OSHA proposes to: (1) Add new test standards to the Nationally Recognized Testing Laboratories (NRTL) Program's list of appropriate test standards; (2) delete or replace several test standards from the NRTL Program's list of appropriate test standards; and (3) update the scopes of recognition of several NRTLs.

DATES: Submit comments, information, and documents in response to this notice, or requests for an extension of time to make a submission, on or before December 8, 2014. All submissions must bear a postmark or provide other evidence of the submission date.

ADDRESSES: 1. Electronically: Tender submissions electronically to the Federal eRulemaking Portal at http://www.regulations.gov. Follow the instructions online for making electronic submissions.

2. Facsimile: If submissions, including attachments, are not longer than ten (10) pages, commenters may fax them to the OSHA Docket Office at (202) 693-1648.

3. Regular or express mail, hand delivery, or messenger (courier) service: Tender submissions to the OSHA Docket Office, Docket No. OSHA-2013-0012, Technical Data Center, Room N-2625, U.S. Department of Labor, 200 Constitution Avenue NW., Washington, DC 20210; telephone: (202) 693-2350 (TTY number: (877) 889-5627). Note that security procedures may result in significant delays in receiving submissions sent by regular mail. Contact the OSHA Docket Office for information about security procedures concerning delivery of materials by regular or express mail, hand delivery, or messenger (courier) service. The hours of operation for the OSHA Docket Office are 8:15 a.m.-4:45 p.m., e.t.

4. Instructions: All submissions must include the Agency name and the OSHA docket number (OSHA-2013-0012). OSHA places comments and other materials, including any personal information, in the public docket without revision, and these materials may be available online at http://www.regulations.gov. Therefore, the Agency cautions commenters about submitting statements they do not want made available to the public, or submitting comments that contain personal information (either about themselves or others) such as Social Security numbers, birth dates, and medical data.

5. Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office. Contact the OSHA Docket Office for assistance in locating docket submissions.

6. Extension of comment period: Submit requests for an extension of the comment period on or before December 8, 2014 to the Office of Technical Programs and Coordination Activities, Directorate of Technical Support and Emergency Management, Occupational Safety and Health Administration, U.S. Department of Labor, 200 Constitution Avenue NW., Room N-3655, Washington, DC 20210, or by fax to (202) 693-1644.

FOR FURTHER INFORMATION CONTACT: Information regarding this notice is available from the following sources:

1. Press inquiries: Contact Mr. Frank Meilinger, Director, OSHA Office of Communications, Room N-3647, U.S. Department of Labor, 200 Constitution Avenue NW., Washington, DC 20210; telephone: (202) 693-1999; email: Meilinger.francis2@dol.gov.

2. General and technical information: Contact Mr. Kevin Robinson, Acting Director, NRTL Program, Occupational Safety and Health Administration, Room N-3655, U.S. Department of Labor, 200 Constitution Avenue NW., Washington, DC 20210; telephone (202) 693-2110; email robinson.kevin@dol.gov. OSHA's Web page includes information about the NRTL Program (see http://www.osha.gov and select “N” in the “A to Z Index” located at the top of the Web page).

3. Copies of this Federal Register notice: Electronic copies of this Federal Register notice are available at http://www.regulations.gov. This Federal Register notice, as well as other relevant information, is also available on OSHA's Web page at http://www.osha.gov.

SUPPLEMENTARY INFORMATION:

I. Background

The NRTL Program recognizes organizations that provide product-safety testing and certification services to manufacturers. These organizations perform testing and certification for purposes of the Program, to U.S. consensus-based product-safety test standards. The products covered by the NRTL Program consist of those items for which OSHA safety standards require “certification” by an NRTL. The requirements affect electrical products and 38 other types of products. OSHA does not develop or issue these test standards, but generally relies on standards-development organizations (SDOs), which develop and maintain the standards using a method that provides input and consideration of views of industry groups, experts, users, consumers, governmental authorities and others having broad experience in the safety field involved.

A. Addition of New Test Standards to the NRTL List of Appropriate Test Standards

Periodically, OSHA will propose to add new test standards to the NRTL list of appropriate test standards following an evaluation of the test standard document. To qualify as an appropriate test standard, the Agency evaluates the document to (1) verify it represents a product category for which OSHA requires certification by an NRTL, (2) verify the document represents an end product and not a component, and (3) verify the document defines safety test specifications (not installation or operational performance specifications). OSHA becomes aware of new test standards through various avenues. For example, OSHA may become aware of new test standards by: (1) Monitoring notifications issued by certain SDOs; (2) reviewing applications by NRTLs or applicants seeking recognition to include a new test standard in their scopes of recognition; and (3) obtaining notification from manufacturers, manufacturing organizations, government agencies, or other parties that a new test standard may be appropriate to add to its list of appropriate standards. OSHA may determine to include a new test standard in the list, for example, if the test standard is for a particular type of product that another test standard also covers, covers a type of product that no standard previously covered, or is otherwise new to the NRTL Program.

B. SDO Deletion and Replacement of Test Standards

The NRTL Program regulations require that appropriate test standards be current (29 CFR 1910.7(c)). A test standard withdrawn by a standards-development organization is no longer considered an appropriate test standard (Directive, App. C.XIV.B). It is OSHA's policy to remove recognition of withdrawn test standards by issuing a correction notice in the Federal Register for all NRTLs recognized for the withdrawn test standards. However, SDOs frequently will designate a replacement standard for standards they withdraw. OSHA will recognize an NRTL for an appropriate replacement test standard if the NRTL has the requisite testing and evaluation capability for the replacement test standard.

One method that NRTLs may use to show such capability involves an analysis to determine whether any testing and evaluation requirements of existing test standards in an NRTL's scope are comparable (i.e., are completely or substantially identical) to the requirements in the replacement test standard. If OSHA's analysis shows the replacement test standard does not require additional or different technical capability than an existing test standard(s), the replacement test standard is comparable to the existing test standard(s), and OSHA can add the replacement test standard to affected NRTLs' scopes of recognition. If OSHA's analysis shows the replacement test standard requires an additional or different technical capability, or the replacement test standard is not comparable to any existing test standards, each affected NRTL that seeks to have OSHA add the replacement test standard to the NRTL's scope of recognition must provide information to OSHA that demonstrates technical capability.

C. Other Reasons for Removal of Test Standards From the NRTL List of Appropriate Test Standards

OSHA may choose to remove a test standard from the NRTL list of appropriate test standards based on an internal review in which NRTL Program staff review the NRTL list of appropriate test standards to determine if the test standards conform to the definition of an appropriate test standard defined in NRTL Program regulations and policy. There are several reasons for removing a test standard based on this review. First, a document that provides the methodology for a single test is a test method rather than an appropriate test standard (29 CFR 1910.7(c)). As stated above, a test standard must specify the safety requirements for a specific type of product(s). A test method, however, is a “specified technical procedure for performing a test” (Directive, App. B). As such, a test method is not an appropriate test standard. While an NRTL may use a test method to determine if certain safety requirements are met, a test method is not itself a safety requirement for a specific product category.

Second, a document that focuses primarily on usage, installation, or maintenance requirements would also not be considered an appropriate test standard (Directive, App. D.IV.B). In some cases, however, a document may also provide safety test specifications in addition to usage, installation, and maintenance requirements. In such cases, the document would be retained as an appropriate test standard based on the safety test specifications.

Finally, a document may not be considered an appropriate test standard if the document covers products for which OSHA does not require testing and certification (Directive, App. D.IV.A). Similarly, a document that covers electrical-product components would not be considered an appropriate test standard. These documents apply to types of components that have limitation(s) or condition(s) on their use, in that they are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL Program. OSHA notes, however, that it is not proposing to delete from NRTLs' scopes of recognition any test standards covering end-use products that contain such components.¹

¹ OSHA notes also that some types of devices covered by these documents, such as capacitors and transformers, may be end-use products themselves, and tested under other test standards applicable to such products. For example, the following test standard covers transformers that are end-use products: UL 1562 Standard for Transformers, Distribution, Dry-Type—Over 600 Volts. OSHA is not proposing to delete such test standards from NRTLs' scopes of recognition.

In addition, OSHA notes that, to conform to a test standard covering an end-use product, an NRTL must still determine that the components in the product comply with the components' specific test standards. In making this determination, NRTLs may test the components themselves, or accept the testing of a qualified testing organization that a given component conforms to its particular test standard. OSHA reviews each NRTL's procedures to determine which approach the NRTL will use to address components, and reviews the end-use product testing to verify the NRTL appropriately addresses that product's components.

II. Proposal To Add New Test Standards to the NRTL Program's List of Appropriate Test Standards

In this notice, OSHA proposes to add several new test standards to the NRTL Program's list of appropriate test standards. Table 1 below lists test standards that are new to the NRTL Program. OSHA preliminarily determined that these test standards are appropriate test standards and proposes to include these test standards in the NRTL Program's list of appropriate test standards. OSHA seeks public comment on this preliminary determination.

Table 1—Test Standards OSHA Is Proposing To Add to the NRTL Program's List of Appropriate Test Standards
Test standard | Test standard title
AAMI HA60601-1-11 | Medical Electrical Equipment—Part 1-11: General requirements for basic safety and essential performance—Collateral Standard: Requirements for medical electrical equipment and medical electrical systems used in the home healthcare.
AAMI 60601-2-2 | Medical electrical equipment—Part 2-2: Particular requirements for the basic safety and essential performance of high frequency surgery equipment and high frequency surgical accessories.
AAMI 60601-2-4 | Medical electrical equipment—Part 2-4: Particular requirements for basic safety and essential performance of cardiac defibrillators.
AAMI 60601-2-16 | Medical electrical equipment,—Part 2-16: Particular requirements for basic safety and essential performance of hemodialysis, hemodiafiltration and hemofiltration equipment.
AAMI 60601-2-19 | Medical Electrical Equipment—Part 2-19: Particular requirements for the basic safety and essential performance of infant incubators.
AAMI 60601-2-20 | Medical Electrical Equipment—Part 2-20: Particular requirements for the basic safety and essential performance of infant transport incubators.
AAMI 60601-2-21 | Medical Electrical Equipment—Part 2-21: Particular requirements for the basic safety and essential performance of infant radiant warmers.
AAMI 60601-2-25 | Medical electrical equipment—Part 2-25: Particular requirements for the basic safety and essential performance of electrocardiographs.
AAMI 60601-2-27 | Medical electrical equipment—Part 2-27: Particular requirements for the basic safety and essential performance of electrocardiographic monitoring equipment.
AAMI 60601-2-47 | Medical electrical equipment—Part 2-47: Particular requirements for the basic safety and essential performance of ambulatory electrocardiographic systems.
AAMI 60601-2-50 | Medical Electrical Equipment—Part 2-50: Particular requirements for the basic safety and essential performance of infant phototherapy equipment.
AAMI 80601-2-30 | Medical electrical equipment—Part 2-30: Particular requirements for the basic safety and essential performance of automated non-invasive sphygmomanometers.
AAMI 80601-2-58 | Medical Electrical Equipment—Part 2-58: Particular requirements for the basic safety and essential performance of lens removal devices and vitrectomy devices for ophthalmic surgery.
ISA 60079-25 | Explosive Atmospheres—Part 25: Intrinsically Safe Electrical Systems.
ISA 60079-27 | Explosive atmospheres—Part 27: Fieldbus Intrinsically Safe Concept (FISCO) and Fieldbus Non-Incendive Concept (FNICO).
UL 60745-2-23 | Hand-Held Motor-Operated Electric Tools—Safety—Part 2-23: Particular Requirements for Die Grinders and Small Rotary Tools.

III. Proposal To Delete or Replace Several Test Standards From the NRTL Program's List of Appropriate Test Standards

In this notice, OSHA proposes to delete several withdrawn and deleted test standards from the NRTL Program's list of appropriate test standards. OSHA also proposes to incorporate into the NRTL Program's list of appropriate test standards replacement test standards for some of the withdrawn and deleted test standards.

Table 2 lists the test standards that OSHA proposes to delete from the NRTL Program's list of appropriate test standards, as well as an abbreviated rationale for OSHA's proposed action. For a full discussion of the rationale, see Sections I.B and I.C of this notice. Table 2 also lists corresponding replacement test standards that OSHA proposes to incorporate into the NRTL Program's list of appropriate test standards (when applicable). OSHA seeks public comment on this preliminary determination.

OSHA notes also that Table 2 lists the subject test standards and the proposed action with regard to each of these test standards without indicating how the proposed action will affect individual NRTLs. Section IV of this notice discusses how the proposed action will affect individual NRTLs.

Table 2—List of Test Standards OSHA Proposes To Delete From or Incorporate Into NRTLs Scopes of Recognition
Proposed deleted test standard | Reason for proposed deletion | Proposed replacement test standard(s) (if applicable)
FM 3620—Purged and Pressurized Electrical Equipment for Hazardous Locations | FM 3620 includes references to out- of-date standards | NFPA 496—Purged and Pressurized Enclosures for Electrical Equipment.
UL 60950—Information Technology Equipment | Standard has been withdrawn and directly replaced by a new standard | UL 60950-1—Information Technology Equipment—Safety—Part 1: General Requirements is currently listed as an appropriate NRTL standard.
UL 61010A-1—Electrical Equipment for Laboratory Use; Part 1: General Requirements UL 61010B-1—Electrical Measuring and Test Equipment; Part 1: General Requirements UL 61010C-1—Process Control Equipment | These three standards have been withdrawn and consolidated into a single standard | UL 61010-1—Electrical Equipment for Measurement, Control, and Laboratory Use; Part 1: General Requirements is currently listed as an appropriate NRTL standard.
UL 1004—Electrical Motors | Standard has been withdrawn | UL 1004-1—Rotating Electrical machines—General Requirements is currently listed as an appropriate NRTL standard.
UL 681- Installation and Classification of Burglar and Holdup Alarm System | Standard is an installation standard and not an end-product standard. It does not meet the requirements of the NRTL Program | None.
UL 827—Central-Station Alarm Services | Standard is an installation standard and not an end-product standard. It does not meet the requirements of the NRTL Program | None.

OSHA seeks comment on whether its proposed deletions and incorporations are appropriate, and whether it omitted any appropriate replacement test standard that is comparable to a withdrawn test standard. If OSHA determines that it omitted any appropriate replacement test standard that is comparable to a withdrawn test standard, it will, in its final determination, incorporate that replacement test standard into the scope of recognition of each affected NRTL.

IV. Proposed Modifications to Affected NRTLs' Scopes of Recognition

In this notice, OSHA proposes to update the scopes of recognition of several NRTLs. The tables in this section (Table 3 thru Table 16) list, for each affected NRTL, the test standard(s) that OSHA proposes to delete from its scope of recognition and, when applicable, the test standard(s) that OSHA proposes to incorporate into its scope of recognition to replace withdrawn (and deleted) test standards. OSHA seeks comment on whether the proposed deletions and incorporations are correct and whether the replacement standard(s) require additional or different technical capability.

Table 3—Test Standards OSHA Proposes To Delete From or Incorporate Into the Scope of Recognition of Canadian Standards Association (CSA)
Proposed deleted test standard | Reason for proposed deletion | Proposed replacement test standard(s) (if applicable)
FM 3620—Purged and Pressurized Electrical Equipment for Hazardous Locations | FM 3620 includes references to out-of-date standards | NFPA 496—Purged and Pressurized Enclosures for Electrical Equipment.
UL 60950—Information Technology Equipment | Standard has been withdrawn and directly replaced by a new standard | UL 60950-1—Information Technology Equipment—Safety—Part 1: General Requirements.
UL 61010A-1—Electrical Equipment for Laboratory Use; Part 1: General Requirements
UL 61010B-1—Electrical Measuring and Test Equipment; Part 1: General Requirements
UL 61010C-1—Process Control Equipment | These standards have been withdrawn and consolidated into a single standard | UL 61010-1—Electrical Equipment for Measurement, Control, and Laboratory Use; Part 1: General Requirements.
UL 1004—Electrical Motors | Standard has been withdrawn | NRTLs wishing to add UL 1004-1 must submit an application to OSHA.
UL 681—Installation and Classification of Burglar and Holdup Alarm System | Standard is an installation standard and not an end-product standard. It does not meet the requirements of the NRTL Program | None.
UL 827—Central-Station Alarm Services | Standard is an installation standard and not an end-product standard. It does not meet the requirements of the NRTL Program | None.

Table 4—Test Standards OSHA Proposes To Delete From or Incorporate Into the Scope of Recognition of Curtis-Straus LLC (CSL)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements. | These standards have been withdrawn and consolidated into a single standard | UL 61010-1—Electrical Equipment for Measurement, Control, and Laboratory Use; Part 1: General Requirements.

Table 5—Test Standards OSHA Proposes To Delete From or Incorporate Into the Scope of Recognition FM Approvals LLC (FM)
Proposed deleted test standard | Reason for proposed deletion | Proposed replacement test standard(s) (if applicable)
FM 3620—Purged and Pressurized Electrical Equipment for Hazardous Locations | FM 3620 includes references to out-of-date standards | NFPA 496—Purged and Pressurized Enclosures for Electrical Equipment.
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements. | These standards have been withdrawn and consolidated into a single standard | UL 61010-1—Electrical Equipment for Measurement, Control, and Laboratory Use; Part 1: General Requirements.
UL 827—Central-Station Alarm Services | Standard is an installation standard and not an end-product standard. It does not meet the requirements of the NRTL Program | None.

Table 6—Test Standards OSHA Proposes To Delete From or Incorporate Into the Scope of Recognition of Intertek Testing Services NA, Inc. (ITSNA)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements. UL 61010C-1—Process Control Equipment. | These standards have been withdrawn and consolidated into a single standard | UL 61010-1—Electrical Equipment for Measurement, Control, and Laboratory Use; Part 1: General Requirements.
UL 1004—Electrical Motors | Standard has been withdrawn | NRTLs wishing to add UL 1004-1 must submit an application to OSHA.
UL 681—Installation and Classification of Burglar and Holdup Alarm System | Standard is an installation standard and not an end-product standard. It does not meet the requirements of the NRTL Program | None.
UL 827—Central-Station Alarm Services | Standard is an installation standard and not an end-product standard. It does not meet the requirements of the NRTL Program | None.

Table 7—Test Standards OSHA Proposes To Delete From or Incorporate Into the Scope of Recognition of MET Laboratories, Inc. (MET)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements. UL 61010C-1—Process Control Equipment. | These standards have been withdrawn and consolidated into a single standard | UL 61010-1—Electrical Equipment for Measurement, Control, and Laboratory Use; Part 1: General Requirements.

Table 8—Test Standards OSHA Proposes To Delete From or Incorporate Into the Scope of Recognition of Nemko-CCL (CCL)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements | Standard has been withdrawn and consolidated with others into a single standard | UL 61010-1—Electrical Equipment for Measurement, Control, and Laboratory Use; Part 1: General Requirements.

Table 9—Test Standard OSHA Proposes To Delete From or Incorporate Into the Scope of Recognition of NSF International (NSF)
Proposed deleted test standard | Reason for proposed deletion | Proposed replacement test standard(s) (if applicable)
UL 61010A-1—Electrical Equipment for Laboratory Use; Part 1: General Requirements | Standard has been withdrawn and consolidated with others into a single standard | UL 61010-1—Electrical Equipment for Measurement, Control, and Laboratory Use; Part 1: General Requirements.

Table 10—Test Standard OSHA Proposes To Delete From or Incorporate Into the Scope of Recognition of QPS Evaluation Services (QPS)
Proposed deleted test standard | Reason for proposed deletion | Proposed replacement test standard(s) (if applicable)
UL 60950—Information Technology Equipment | Standard has been withdrawn and directly replaced by a new standard | UL 60950-1—Information Technology Equipment—Safety—Part 1: General Requirements.

Table 11—Test Standards OSHA Proposes To Delete From or Incorporate Into the Scope of Recognition SGS North America, Inc. (SGS)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements | These standards have been withdrawn and consolidated into a single standard | UL 61010-1—Electrical Equipment for Measurement, Control, and Laboratory Use; Part 1: General Requirements.

Table 12—Test Standard OSHA Proposes To Delete From or Incorporate Into the Scope of Recognition of Southwest Research Institute (SWRI)
Proposed deleted test standard | Reason for proposed deletion | Proposed replacement test standard(s) (if applicable)
UL 60950—Information Technology Equipment | Standard has been withdrawn and directly replaced by a new standard | UL 60950-1—Information Technology Equipment—Safety—Part 1: General Requirements.

Table 13—Test Standards OSHA Proposes To Delete From or Incorporate Into the Scope of Recognition of TUV Rhineland of North America, Inc. (TUV)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements UL 61010C-1—Process Control Equipment | These standards have been withdrawn and consolidated into a single standard | UL 61010-1—Electrical Equipment for Measurement, Control, and Laboratory Use; Part 1: General Requirements.
UL 1004—Electrical Motors | Standard has been withdrawn | NRTLs wishing to add UL 1004-1 must submit an application to OSHA.
UL 681- Installation and Classification of Burglar and Holdup Alarm System | Standard is an installation standard and not an end-product standard. It does not meet the requirements of the NRTL Program | None.
UL 827—Central-Station Alarm Services | Standard is an installation standard and not an end-product standard. It does not meet the requirements of the NRTL Program | None.

Table 14—Test Standards OSHA Proposes To Delete From or Incorporate Into the Scope of Recognition of TUV SUD America, Inc. (TUVAM)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements | These standards have been withdrawn and consolidated into a single standard | UL 61010-1—Electrical Equipment for Measurement, Control, and Laboratory Use; Part 1: General Requirements.
UL 1004—Electrical Motors | Standard has been withdrawn | NRTLs wishing to add UL 1004-1 must submit an application to OSHA.

Table 15—Test Standards OSHA Proposes To Delete From or Incorporate Into the Scope of Recognition of TUV SUD Product Services (TUVPSG)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements | These standards have been withdrawn and consolidated into a single standard | UL 61010-1—Electrical Equipment for Measurement, Control, and Laboratory Use; Part 1: General Requirements.
UL 1004—Electrical Motors | Standard has been withdrawn | NRTLs wishing to add UL 1004-1 must submit an application to OSHA.

Table 16—Test Standards OSHA Proposes To Delete From or Incorporate Into the Scope of Recognition of Underwriters Laboratories Inc. (UL)
Proposed deleted test standard | Reason for proposed deletion | Proposed replacement test standard(s) (if applicable)
UL 60950—Information Technology Equipment | Standard has been withdrawn and directly replaced by a new standard | UL 60950-1—Information Technology Equipment—Safety—Part 1: General Requirements.
UL 61010A-1—Electrical Equipment for Laboratory Use; Part 1: General Requirements UL 61010B-1—Electrical Measuring and Test Equipment; Part 1: General Requirements | These standards have been withdrawn and consolidated into a single standard | UL 61010-1—Electrical Equipment for Measurement, Control, and Laboratory Use; Part 1: General Requirements.
UL 1004—Electrical Motors | Standard has been withdrawn | NRTLs wishing to add UL 1004-1 must submit an application to OSHA.
UL 681—Installation and Classification of Burglar and Holdup Alarm System | Standard is an installation standard and not an end-product standard. It does not meet the requirements of the NRTL Program | None.
UL 827—Central-Station Alarm Services | Standard is an installation standard and not an end-product standard. It does not meet the requirements of the NRTL Program | None.

OSHA will incorporate into its informational Web pages the modifications OSHA decides to make to each NRTL's scope of recognition. These Web pages detail the scope of recognition for each NRTL, including the test standards the NRTL may use to test and certify products under OSHA's NRTL Program. OSHA also will add, to its “Current List of Appropriate Test Standards under the NRTL Program” Web page, those test standards it adds to the NRTL list of appropriate test standards, and add, to its “Current List of Removed Test Standards” Web page, those test standards that OSHA no longer recognizes or permits under the NRTL Program. Access to these Web pages is available at http://www.osha.gov/dts/otpca/nrtl/index.html.

V. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2)), Secretary of Labor's Order No. 1-2012 (77 FR 3912, Jan. 25, 2012), and 29 CFR 1910.7.

Signed at Washington, DC, on October 31, 2014.
David Michaels,
Assistant Secretary of Labor for Occupational Safety and Health.

[FR Doc. 2014-26368 Filed 11-5-14; 8:45 am]

BILLING CODE 4510-26-P